DEPARTMENT OF THE INTERIOR

Bureau of Land Management

[LLOR 930.0000.L6350.0000.DQ0000; HAG-09-0022]

Notice of Availability of the Final Environmental Impact Statement for the Revision of the Resource Management Plans of the Western Oregon Bureau of Land Management Districts of Salem, Eugene, Roseburg, Coos Bay, and Medford, and the Klamath Falls Resource Area of the Lakeview District; Amendment

AGENCY: Bureau of Land Management, Interior.

ACTION: Amended Notice.

SUMMARY: This is an amended notice for Environmental Impact Statement (EIS) No. 20080416, Final EIS, Bureau of Land Management (BLM), Oregon (OR), Western Oregon BLM Districts of Salem, Eugene, Roseburg, Coos Bay, and Medford Districts, and the Klamath Falls Resource Area of the Lakeview District, Revision of the Resource Management Plans (RMP), Implementation, OR, which originally published in the Federal Register on October 17, 2008 [73 FR 61905]. This amended notice reflects a decision by the BLM to offer a protest period on the proposed revision of the Western Oregon RMPs. Any person who participated in the planning process and has an interest which is or may be adversely affected by the approval of the proposed RMPs may protest such approval. A protest period is not a comment period. A valid protest addresses only those issues which were submitted for the record during the planning process and contains a concise statement explaining why the decision to adopt the proposed plan would violate an applicable statute, regulation or BLM policy.

DATES: The protest shall be filed (postmarked or delivered) by December 8, 2008. E-mailed and faxed protests will not be accepted as valid protests unless the protesting party also provides the original letter by either regular mail (USPS) or overnight delivery service postmarked by the close of the protest period. Under these conditions, the BLM will consider the e-mailed or faxed protest as an advance copy and will afford it full consideration. If you wish to provide the BLM with such advance notification, please direct faxed protests to the attention of Brenda Hudgens-Williams—BLM protest coordinator at 202-208-5010, and e-mailed protests to: Brenda_Hudgens-Williams@blm.gov.

ADDRESSES: You may send your protest to one of the following addresses:

• USPS Delivery Service: Director (210), Attention: Brenda Hudgens-Williams—Western Oregon Plans Revisions, P.O. Box 66538, Washington, DC 20035

• Overnight Delivery Service (not USPS): Director (210), Attention: Brenda Hudgens-Williams—Western Oregon Plans Revisions, 1620 L Street NW., Suite 1075, Washington, DC 20036

SUPPLEMENTARY INFORMATION: The protest shall be in writing and shall be filed with the Director. The protest shall contain:

• The name, mailing address, telephone number and interest of the person filing the protest;

• A statement of the issue or issues being protested;

• A statement of the part or parts of the plan or amendment being protested;

• A copy of all documents addressing the issue or issues that were submitted during the planning process by the protesting party or an indication of the date the issue or issues were discussed or provided for the record; and

• A concise statement explaining why the decision to adopt the proposed plan would violate an applicable statute, regulation or BLM policy.

Concerns that have not been raised previously in the planning process, concerns that are not germane to the planning process, and/or statements that merely reflect disagreement, express opinions, or make demands or allegations without the support of a concise statement on why a decision to adopt the proposed plan is in error will not be further analyzed and will be considered invalid protests.

• The Director shall promptly render a decision on all valid protests and will send his written decision to the protesting party by certified mail, return receipt requested.

• The decision of the Director shall be the final decision of the Department of the Interior.

FOR FURTHER INFORMATION, CONTACT: Jerry Hubbard, Public Affairs Specialist, Bureau of Land Management, Oregon State Office, 333 S.W. 3rd Ave., Portland, Oregon 97208, Telephone (503) 808-6115.

Dated: November 3, 2008.
Edward W. Shepard,
State Director, Oregon/Washington.

[FR Doc. E8-26672 Filed 11-6-08; 8:45 am]

BILLING CODE 4310-33-P